ENVIRONMENTAL PROTECTION AGENCY

[FRL-9905-36-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1975.09; NESHAP for Stationary Reciprocating Internal Combustion Engines; 40 CFR part 63 subparts A and ZZZZ; was approved on 12/17/2013; OMB Number 2060-0548; expires on 12/31/2016; Approved without change.

EPA ICR Number 1789.08; NESHAP for Natural Gas Transmission and Storage; 40 CFR part 63 subparts A and HHH; was approved on 12/17/2013; OMB Number 2060-0418; expires on 04/30/2015; Approved without change.

EPA ICR Number 1361.16; Information Requirements for Boilers and Industrial Furnaces (Renewal); 40 CFR 261.38; 40 CFR 264.12, 264.13, 264.15, 264.16, 264.17, 264.37, 264.56, 264.73, 264.101, 264.112, 264.113, 264.115, 264.142, 264.143, 264.147, 264.148, 264.149, 264.150, 265.12, 265.13, 265.15, 265.16, 265.50, 265.51, 265.52, 265.53, 265.54, 265.56, 265.73, 265.112, 265.113, 265.115, 265.142, 265.143, 265.147, 265.148, 265.149, 265.150, 266.100, 266.102, 266.103, 266.104, 266.106, 266.107, 266.108, 266.109, 266.110, 266.111, 266.112, 270.14, 270.22, 270.30, 270.33, 270.40, 270.41, 270.42, 270.50, 270.51 and 270.66; was approved on 12/17/2013; OMB Number 2050-0073; expires on 12/31/2016; Approved without change.

EPA ICR Number 1071.11; NSPS for Stationary Gas Turbines; 40 CFR part 60 subparts A and GG; was approved on 12/17/2013; OMB Number 2060-0028; expires on 12/31/2016; Approved without change. EPA ICR Number 2256.04; NESHAP for Acrylic/Modacrylic Fibers Prod., Carbon Black Prod., Chemical Mfg: Chromium Compounds, Flexible Polyurethane Foam Production/Fabrication, Lead Acid Battery Mfg, Wood Preserving (Renewal); 40 CFR part 63 subparts A, LLLLLL, NNNNNN, OOOOOO, PPPPPP and QQQQQQ; was approved on 12/17/2013; OMB Number 2060-0598; expires on 12/31/2016; Approved without change.

EPA ICR Number 1687.09; NESHAP for Aerospace Manufacturing and Rework Facilities; 40 CFR part 63 subparts A and GG; was approved on 12/17/2013; OMB Number 2060-0314; expires on 12/31/2016; Approved without change.

EPA ICR Number 2228.04; Reformulated Gasoline Commingling Provisions (Renewal); 40 CFR 80.78(a)(8)(ii)(B) and 80.78(a)(8)(iii)(A); was approved on 12/17/2013; OMB Number 2060-0587; expires on 12/31/2016; Approved with change.

EPA ICR Number 1593.09; Air Emission Standards for Tanks, Surface Impoundments and Containers; 40 CFR part 60 subpart A; 40 CFR part 264 subpart CC; and 40 CFR part 265 subpart CC; was approved on 12/19/2013; OMB Number 2060-0318; expires on 12/31/2016; Approved without change.

EPA ICR Number 2375.02; Implementation of Ambient Air Protocol Gas Verification Program (Renewal); 40 CFR part 58; was approved on 12/19/2013; OMB Number 2060-0648; expires on 12/31/2016; Approved without change.

Comment Filed

EPA ICR Number 1783.07; NESHAP for Flexible Polyurethane Foam Product; in 40 CFR part 63 subparts A and III; OMB filed comment on 12/17/2013.

EPA ICR Number 2462.01; Amended Heating Oil Definition Under the Renewable Fuels Standard (Proposed Rule); in 40 CFR 80.1450, 80.1453 and 80.1454; OMB filed comment on 12/31/2013.

Withdrawn and Continue

EPA ICR Number 2482.01; Recordkeeping and Reporting Requirements Regarding the Sulfur Content of Motor Vehicle Gasoline, Gasoline Additives, Denatured Fuel Ethanol, and Other Oxygenates Under the Tier 3 Rule; Withdrawn from OMB on 12/13/2013.

Short Term Approval Extension

EPA ICR 1907.05 Recordkeeping and Reporting Requirements Regarding the Sulfur Content of Motor Vehicle Gasoline Under the Tier 2 Rule; 40 CFR part 80, subpart H; on 12/17/2013 OMB granted an extension of the expiration date to 04/30/2014.

EPA ICR 2212.03 Minority Business Enterprise/Woman Business Enterprise (MBE/WBE) Utilization Under Federal Grants Cooperative Agreements and Interagency Agreements; on 12/19/2013 OMB granted an extension of the expiration date to 06/30/2014.

John Moses,
Director, Collections Strategies Division.

[FR Doc. 2014-00374 Filed 1-10-14; 8:45 am]

BILLING CODE 6560-50-P